DEPARTMENT OF TRANSPORTATION

Federal Motor Carrier Safety Administration

[Docket No. FMCSA-2004-18898 and FMCSA-1998-3639]

Comprehensive Safety Analysis 2010 Initiative

AGENCY: Federal Motor Carrier Safety Administration.

ACTION: Notice of Public Listening Sessions.

SUMMARY: The Federal Motor Carrier Safety Administration (FMCSA) announces a series of Public Listening Sessions to solicit input on ways the FMCSA can improve its process of monitoring and assessing the safety of the motor carrier industry and how that information should be presented to the public. FMCSA is calling this effort the Comprehensive Safety Analysis 2010 Initiative. Through its current compliance review process, FMCSA is able to conduct compliance reviews on only a small percentage of the 675,000 active interstate motor carriers. The FMCSA is looking for ways to improve monitoring of motor carriers, to make agency processes more efficient, and to expand its enforcement and compliance reach in the regulated community in order to improve FMCSA's ability to meet its goal of significantly reducing crashes, fatalities, and injuries involving large trucks and buses.

Dates and Locations: The Public Listening Sessions will be held from 9 a.m. until 4 p.m. on the following dates at the following locations:

Session 1: September 21, 2004—Doubletree Hotel, Mission Valley, 7450 Hazard Center Drive, San Diego, California.

Session 2: September 28, 2004—Sheraton Atlanta, 165 Courtland Street at International Blvd, Atlanta, Georgia.

Session 3: October 5, 2004—Hampton Inn & Suites Dallas/Mesquite, 1700 Rodeo Drive, Mesquite, Texas.

Session 4: October 12, 2004—Wyndham Chicago, 633 North St. Clair, Chicago, IL.

Session 5: October 19, 2004—Fairview Park Marriot, 3111 Fairview Park Drive, Falls Church, VA.

Session 6: October 26, 2004—Sheraton Springfield, One Monarch Place, Springfield, MA.

Registration for each session will be limited. For more information or to register to attend or speak at the Public Listening Sessions, see FOR FURTHER INFORMATION CONTACT below.

ADDRESSES: You may also submit written comments identified by DOT DMS Docket Number FMCSA-2004-18898 and FMCSA-1998-3639 by any of the following methods:

Web site: http://dms.dot.gov. Follow the instructions for submitting comments on the DOT electronic docket site.

Fax: 1-(202)-493-2251.

Mail: Docket Management Facility; U.S. Department of Transportation, 400 Seventh Street, SW., Nassif Building, Room PL-401, Washington, DC 20590-0001.

Hand Delivery: Room PL-401 on the plaza level of the Nassif Building, 400 Seventh Street SW., Washington, DC, between 9 a.m. and 5 p.m., Monday through Friday, except Federal holidays.

Instructions: All submissions must include the agency name and docket number for this proceeding. Note that all comments received will be posted without change to http://dms.dot.gov, including any personal information provided. Please see the Privacy Act heading for further information.

Docket: For access to the docket to read background documents or comments received, go to http://dms.dot.gov at any time or to Room PL-401 on the plaza level of the Nassif Building, 400 Seventh Street SW., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: To register to attend a Public Listening Session, please follow one of two methods:

(a) Go online to: http://www.Acteva.com/go/FMCSA and fill in the necessary information. You will be asked for information such as your name, title, organization, mailing address and which session you wish to attend; or

(b) Telephone Touchstone Consulting, Inc. in Washington, DC at (202) 449-7354 and a person will register you over the phone.

Please note that registration for the Public Listening Sessions will open at 9 a.m. EDT on August 30, 2004 and will end at 5 p.m. EDT on the Tuesday preceding each session. For example, registration for the October 26, 2004 Public Listening Session will close 5 p.m. EDT Tuesday October 19, 2004.

Registration at each Public Listening Session will be limited to the first people to sign up. You will be asked for identification at the welcome table at the event. Lunch will be served.

All attendees will be encouraged to participate during the Public Listening Session discussion periods.

For general information about this initiative, contact Mr. William Quade, (202) 366-2172, FMCSA, Office of Enforcement and Compliance, 400 Seventh Street, SW., Room 8310, Washington, DC 20590 or at William.quade@fmcsa.dot.gov.

SUPPLEMENTARY INFORMATION: FMCSA is reviewing its process for monitoring and assessing the safety of the motor carrier industry. FMCSA would like its safety oversight process to reflect a proactive, research-based, legally supportable, comprehensive approach to improving commercial motor vehicle safety—one that maximizes use of FMCSA resources including information systems and technology, reduces high-risk behavior in the motor carrier industry, and enhances FMCSA's ability to meet its goal of significantly reducing crashes, fatalities, and injuries involving large trucks and buses. Although the current process reflects these attributes, the agency recognizes the limitations of the process and wants to address them.

To that end, FMCSA is holding six Public Listening Sessions to solicit ideas and feedback from its stakeholders and all interested parties, including the industry, drivers, insurance groups, safety advocacy groups, and FMCSA's governmental partners, especially States, concerning how FMCSA might improve its process of monitoring and assessing the safety of the motor carrier industry. The Public Listening Sessions will be arranged and facilitated by a FMCSA contractor.

Background

The compliance review (CR) is the centerpiece of FMCSA's current oversight program and is an effective tool for saving lives and assessing a carrier's safety condition. FMCSA's current CR program uses adherence to Federal laws and regulations as the primary indicator of the safety posture of a motor carrier. This tool focuses on motor carriers and renders safety fitness determinations in accordance with Congressional mandates expressed in 49 U.S.C. 31144, Safety fitness of owners and operators (requirement for safety fitness determination of owners and operators of commercial motor vehicles). While FMCSA determines, to a limited extent, the compliance and safety of commercial motor vehicle (CMV) drivers and pursues enforcement against them, if warranted, the safety fitness of individual CMV drivers is not evaluated by current FMCSA systems. Also, because the CR relies on the USDOT number as a unique identifier, safety fitness assessments do not track the individuals within a motor carrier responsible for safety such as CMV drivers, corporate officers, partners, or safety directors.

Impetus for Change

Since the Motor Carrier Safety Improvement Act of 1999 (MCSIA) (Pub. L. 106-159, 13 Stat. 1748) created FMCSA as an independent DOT modal agency, the motor carrier population has increased steadily. At the same time, FMCSA's programmatic responsibilities have also increased with:

• Implementation of Congressional mandates such as the New Entrant Program (Section 210 of MCSIA);

• Preparing for the opening of the border with Mexico; and

• Taking an increased role in ensuring transportation security.

FMCSA's existing compliance and safety programs improve and promote safety performance. However, despite increases in regulated population and programmatic responsibilities, resources for these efforts remain relatively constant. This flattening of resources renders it difficult for existing programs, and the information systems that support these programs, to maintain prolonged and sustained improvements to motor carrier safety.

In its present structure, FMCSA's CR program is resource intensive and reaches only a small percentage of motor carriers. On-site CRs take one safety investigator an average of 3 to 4 days to complete so, at present staffing levels, FMCSA can perform CRs on only a small portion of the 675,000 active interstate motor carriers. In addition, the current CR program does not easily reflect the impact that people involved in the carrier's operation, such as managers, owners, and drivers operators, have on safety. Delayed, incomplete, and inaccurate data impede efforts to establish a performance-based, automated, data-driven process for improving safety performance. These limitations have caused FMCSA to explore ways to improve its safety oversight process.

The Public Listening Sessions Seek Stakeholder Input

FMCSA has developed a preliminary list of ideal attributes and basic components that FMCSA believes should be part of any model for FMCSA's oversight of the industry:

• Flexible—Adaptable to Changing Environment.

• Efficient—Maximize Use of Resources.

• Effective-Improve Safety Performance.

• Innovative—Leverage Data and Technology.

• Equitable—Fair and Unbiased.

During the Public Listening Sessions FMCSA will explain its processes and research to date, and describe the attributes and components the Agency believes are appropriate underpinnings to evaluate safety fitness. FMCSA will accept comments on the desired state of safety compliance in the industry, the suitability of the preliminary list of attributes and components, and the information, processes, and strategies FMCSA should consider for a new approach to safety analyses.

The Public Listening Sessions will include a morning plenary session and up to four facilitated afternoon breakout sessions. The participants will be invited to discuss, among other things, the following:

1. How effective is FMCSA's current compliance review process? What is working now? Not working?

2. What alternative methods should FMCSA consider for determining carrier safety fitness and for addressing unsafe behaviors?

3. What should be the focus of FMCSA's safety analysis process? Motor carriers? Drivers? Owners? Other people or entities associated with safety?

4. Should FMCSA present its safety evaluations to the public? How?

5. What should be the key attributes of a program to assess motor carrier safety?

6. How should safety be measured? This measurement may be used to focus FMCSA resources and to assess safety under 49 U.S.C. 31144, Safety fitness of owners and operators.

A. Which data elements (crashes, inspection results, violations, financial condition) are the best indicators of safe (or unsafe) operations? Are there other important safety indicators we currently overlook?

B. How should FMCSA consider historical data when measuring safety?

C. How should FMCSA consider unique characteristics of the operations (hazardous materials, passengers, others) when measuring safety?

7. What compliance and enforcement tools are most effective? Currently FMCSA's interventions include issuing warning letters, issuing civil penalties, and placing motor carriers out-of-service.

A. What types of interventions are most effective?

B. How should FMCSA use history and characteristics of the motor carrier's operations in determining which intervention is appropriate?

Effect on Other Regulations

FMCSA is conducting a related rulemaking proceeding (RIN AA37; Docket No. FMCSA-1998-3639) to examine the Safety Fitness Procedures the agency uses to rate motor carriers. An Advance Notice of Proposed Rulemaking was published for this docket in 1998 (63 FR 38788; July 20, 1998). These listening sessions are broader in scope than the Safety Fitness Procedures, because they relate to FMCSA's entire compliance review and safety analysis process, FMCSA does anticipate that some of the comments at the listening session or comments to the docket may contain information relevant to the Safety Fitness Procedures proceeding. Therefore, FMCSA will be adding all comments made during the listening sessions and comments made to this docket to Docket No. FMCSA-1998-3639 for RIN 2126-AA37. FMCSA anticipates publishing a subsequent rulemaking notice under RIN 2126-AA37 following analysis of the listening sessions and decisions on FMCSA's long-term plan for monitoring motor carrier safety.

Issued on: August 18, 2004.
Warren E. Hoemann,
Deputy Administrator.

[FR Doc. 04-19239 Filed 8-18-04; 2:16 pm]

BILLING CODE 4910-EX-P